DEPARTMENT OF THE INTERIOR

National Park Service

Concession Contracts and Permits: Expiring Contracts; Extension

AGENCY: National Park Service, Interior.

ACTION: Public notice.

SUMMARY: Pursuant to 36 CFR 51.23, notice is hereby given that the National Park Service intends to extend the following expiring concession contract for a period of up to 3 years, or until such time as a new contract is awarded, whichever occurs sooner.

SUPPLEMENTARY INFORMATION: The concession authorization expires on its terms in 2002. The National Park Service has determined that the proposed 3-year extension is necessary in order to avoid interruption of visitor services and has taken all reasonable and appropriate steps to consider alternatives to avoid such interruption. This extension will allow the National Park Service to complete a Commercial Services Plan for a new and expanded concession development, and to develop a prospectus leading to competitive selection for a new long-term concession contract that will be consistent with the to-be-determined decisions of the Commercial Services Plan.

Concessioner ID No. | Concessioner name | Park
LAVO001 | California Guest Services, Inc | Lassen Volcanic National Park.

EFFECTIVE DATE: January 2, 2003.

FOR FURTHER INFORMATION CONTACT: Cynthia Orlando, Concession Program Manager, National Park Service, 1849 C Street, NW., (2410), Washington, DC 20240, Telephone 202/513-7144.

Dated: November 26, 2002.
Richard M. Cripe,
Associate Director, Administration, Workforce Development and Business Practices.

[FR Doc. 02-32167 Filed 12-20-02; 8:45 am]

BILLING CODE 4310-70-M